DEPARTMENT OF VETERANS AFFAIRS

Advisory Committee on Homeless Veterans; Notice of Meeting

The Department of Veterans Affairs (VA) gives notice under Public Law 92-463 (Federal Advisory Committee Act) that a meeting of the Advisory Committee on Homeless Veterans will be held on Monday, December 13 and Tuesday, December 14, 2004. On Monday, December 13, the Committee will meet at 8:30 a.m. to 4:30 p.m., VA Medical Center, Building 500, in Room 6400, 11301 Wiltshire Blvd., Los Angeles, CA 90073. On Tuesday, December 14, the Committee will meet at 8 a.m. at New Directions, Inc. Bldg. 116, 11303 Wiltshire Blvd., Los Angeles, CA 90073. The Committee will recess at approximately 10 a.m. to tour various homeless programs that serve veterans and reconvene at New Directions, Inc. at 2:30 p.m. and will adjourn at 4:30 p.m. The meeting is open to the public.

The purpose of the Committee is to advise the Secretary of Veterans Affairs with an ongoing assessment of the effectiveness of the policies, organizational structures, and services of the Department in assisting homeless veterans. The Committee shall assemble and review information relating to the needs of homeless veterans and provide ongoing advice on the most appropriate means of providing assistance to homeless veterans. The Committee will make recommendations to the Secretary regarding such activities.

On December 13, 2004 the Committee will receive reports from program experts, assess the availability of health care services, review the Capital Asset Realignment for Enhanced Services (CARES) project and other initiatives designed to assist veterans who are homeless. On December 14, 2004 the Committee will continue to receive reports from VA staff and local homeless service providers. The Committee will also visit one or more homeless veterans programs funded by the Department of Veterans Affairs.

Those wishing to attend the meeting should contact Mr. Pete Dougherty, Designated Federal Officer, at (202) 273-5764. No time will be allocated for receiving oral presentations during the public meeting. However, the Committee will accept written comments from interested parties on issues affecting homeless veterans. Such comments should be referred to the Committee at the following address: Advisory Committee on Homeless Veterans, Homeless Veterans Programs Office (075D), U.S. Department of Veterans Affairs, 810 Vermont Avenue, NW., Washington, DC 20420.

Dated: November 8, 2004.
By Direction of the Secretary.
E. Philip Riggin,
Committee Management Officer.

[FR Doc. 04-25728 Filed 11-18-04; 8:45 am]

BILLING CODE 8320-01-M